DEPARTMENT OF DEFENSE

GENERAL SERVICES ADMINISTRATION

NATIONAL AERONAUTICS AND SPACE ADMINISTRATION

48 CFR Parts 31, 49 and 52

[FAC 2005-42; Item XII; Docket 2010-0078; Sequence 2]

Federal Acquisition Regulation; Technical Amendments

AGENCIES: Department of Defense (DoD), General Services Administration (GSA), and National Aeronautics and Space Administration (NASA).

ACTION: Final rule.

SUMMARY: This document makes amendments to the Federal Acquisition Regulation in order to make editorial changes.

DATES: Effective Date: June 16, 2010.

FOR FURTHER INFORMATION CONTACT: The Regulatory Secretariat, 1800 F Street, NW., Room 4041, Washington, DC, 20405, (202) 501-4755, for information pertaining to status or publication schedules. Please cite FAC 2005-42, Technical Amendments.

SUPPLEMENTARY INFORMATION: This document makes amendments to the Federal Acquisition Regulation in order to make editorial changes.

List of Subjects in 48 CFR Parts 31, 49, and 52

Government procurement.

Dated: June 2, 2010.
Edward Loeb,
Acting Director, Acquisition Policy Division.

Therefore, DoD, GSA, and NASA amend 48 CFR parts 31, 49, and 52 as set forth below:

1. The authority citation for 48 CFR parts 31, 49, and 52 continues to read as follows:

Authority: 40 U.S.C. 121(c); 10 U.S.C. chapter 137; and 42 U.S.C. 2473(c).

PART 31—CONTRACT COST PRINCIPLES AND PROCEDURES

31.205-6 [Amended]

2. Amend section 31.205-6 by removing paragraph (o)(6).

31.205-16 [Amended]

3. Amend section 31.205-16 by removing the last sentence of paragraph (c).

PART 49—TERMINATION OF CONTRACTS

4. Amend section 49.505 by revising paragraph (a) and the last sentence of paragraph (b) to read as follows:

49.505 Other termination clauses.

(a) Personal service contracts. The contracting officer shall insert the clause at 52.249-12, Termination (Personal Services), in solicitations and contracts for personal services (see Part 37).

(b) * * * The contracting officer shall also insert the clause in time-and-material contracts, and labor-hour contracts.

* * * * *

PART 52—SOLICITATION PROVISIONS AND CONTRACT CLAUSES

52.222-34 [Amended]

5. Amend section 52.222-34 by removing from paragraph (d) of Alternate I “provision” and adding “clause” in its place.

[FR Doc. 2010-14185 Filed 6-15-10; 8:45 am]

BILLING CODE 6820-EP-S